NUCLEAR REGULATORY COMMISSION

[Docket Nos. 50-325 AND 50-324]

Carolina Power & Light Company; Notice of Receipt of Application for Renewal of Brunswick Steam Electric Plant, Units 1 and 2 Facility Operating License Nos. DPR-71 and DPR-62 for an Additional 20-Year Period

The U.S. Nuclear Regulatory Commission (NRC or Commission) has received an application, dated October 18, 2004, from the Carolina Power & Light Company, now doing business as Progress Energy Carolinas, Inc., filed pursuant to Section 104b of the Atomic Energy Act of 1954, as amended, and 10 CFR part 54, to renew Operating License Nos. DPR-71 and DPR-62 for the Brunswick Steam Electric Plant, Units 1 and 2. Renewal of the licenses would authorize the applicant to operate the facility for an additional 20-year period beyond the period specified in the respective current operating licenses. The current operating licenses for the Brunswick Steam Electric Plant, Units 1 and 2, expire on September 8, 2016, and December 27, 2014, respectively. The Brunswick Steam Electric Plant, Units 1 and 2, are boiling water reactors designed by General Electric Corporation, and are located in Brunswick County, North Carolina. The acceptability of the tendered application for docketing, and other matters including an opportunity to request for a hearing, will be addressed in a subsequent Federal Register notice.

Copies of the application are available for public inspection at the Commission's Public Document Room (PDR), located at One White Flint North, 11555 Rockville Pike (first floor), Rockville, Maryland, or electronically from the Publicly Available Records (PARS) component of the NRC's Agencywide Documents Access and Management System (ADAMS) under accession number ML043060391. The ADAMS Public Electronic Reading Room is accessible from the NRC Web site at http://www.nrc.gov/reading-rm/adams.html. (Note: Public access to ADAMS has been temporarily suspended so that security reviews of publicly available documents may be performed and potentially sensitive information removed. Please check the NRC's Web site for updates on the resumption of ADAMS access.) In addition, the application is available on the NRC's Web site at http://www.nrc.gov/reactors/operating/licensing/renewal/applications.html while the application is under review. Persons who do not have access to ADAMS or who encounter problems in accessing the documents located in ADAMS, should contact the NRC's PDR Reference staff at 1-800-397-4209, 301-415-4737, or by e-mail to pdr@nrc.gov.

The staff has also verified that a copy of the license renewal application for the Brunswick Steam Electric Plant, Units 1 and 2, has been provided to the North Carolina University at Wilmington, William Randall Library, 601 South College Road, Wilmington, North Carolina.

Dated at Rockville, Maryland, this 10th day of November 2004.
For the Nuclear Regulatory Commission.
P.T. Kuo,
Program Director, License Renewal and Environmental Impacts Program, Division of Regulatory Improvement Programs, Office of Nuclear Reactor Regulation.

[FR Doc. 04-25587 Filed 11-17-04; 8:45 am]

BILLING CODE 7590-01-P